INTERNATIONAL TRADE COMMISSION

[Investigation Nos. 731-TA-919 and 920 (Review)]

Certain Welded Large Diameter Line Pipe From Japan and Mexico

Determination

On the basis of the record ¹ developed in the subject five-year reviews the United States International Trade Commission (Commission) determines, pursuant to section 751(c) of the Tariff Act of 1930 (19 U.S.C. 1675(c)), that revocation of the antidumping duty order on certain welded large diameter line pipe from Japan would be likely to lead to continuation or recurrence of material injury to an industry in the United States within a reasonably foreseeable time ² and that revocation of the antidumping duty order on certain welded large diameter line pipe from Mexico would not be likely to lead to continuation or recurrence of material injury to an industry in the United States within a reasonably foreseeable time.³

¹ The record is defined in sec. 207.2(f) of the Commission's Rules of Practice and Procedure (19 CFR § 207.2(f)).

² Chairman Daniel R. Pearson and Commissioner Deanna Tanner Okun dissenting with respect to Japan.

³ Commissioner Charlotte R. Lane dissenting with respect to Mexico.

Background

The Commission instituted these reviews on November 1, 2006 (71 FR 64294) and determined on February 5, 2007 that it would conduct full reviews (72 FR 6746, February 13, 2007). Notice of the scheduling of the Commission's reviews and of a public hearing to be held in connection therewith was given by posting copies of the notice in the Office of the Secretary, U.S. International Trade Commission, Washington, DC, and by publishing the notice in the Federal Register on March 1, 2007 (72 FR 9357); a revised schedule was published on June 4, 2007 (72 FR 30832). The hearing was held in Washington, DC, on July 25, 2007, and all persons who requested the opportunity were permitted to appear in person or by counsel.

The Commission transmitted its determination in these reviews to the Secretary of Commerce on October 16, 2007. The views of the Commission are contained in USITC Publication 3953 (October 2007), entitled Certain Welded Large Diameter Line Pipe from Japan and Mexico: Investigation Nos. 731-TA-919 and 920 (Review).

By order of the Commission.
Issued: October 16, 2007.
William R. Bishop,
Acting Secretary to the Commission.

[FR Doc. E7-20672 Filed 10-19-07; 8:45 am]

BILLING CODE 7020-02-P